DEPARTMENT OF HOMELAND SECURITY

Federal Emergency Management Agency

[Docket No. FEMA-REP-10-WA-1]

Washington Emergency Preparedness and Response Plans for the Columbia Generating Station

AGENCY: Federal Emergency Management Agency (FEMA), Emergency Preparedness and Response Directorate, Department of Homeland Security.

ACTION: Finding and Determination.

SUMMARY: FEMA gives notice of approval of the State of Washington and local Radiological Emergency Preparedness and Response Plans specific to the Columbia Generating Station site.

DATES: This certification and approval are effective as of April 28, 2004.

FOR FURTHER INFORMATION CONTACT: Regional Director, FEMA Region X, 130 228th Street, SW., Bothell, WA 98021-9796. Please refer to Docket No. FEMA-REP-10-WA-1.

SUPPLEMENTARY INFORMATION: In accordance with the Federal Emergency Management Agency (FEMA) regulations, 44 CFR part 350, the State of Washington originally submitted the Emergency Response and Preparedness Plans specific to the Columbia Generating Station site, located in Benton County, Washington, to the Regional Director of FEMA Region X for review and approval on June 12, 2002. During the review of the site-specific offsite Radiological Emergency Preparedness and Response Plans, the FEMA Region X Regional Assistance Committee identified several planning issues which required correction prior to a recommendation of formal plan approval under 44 CFR part 350. During the FEMA Headquarters review process, several issues were identified which were referred back to FEMA Region X for clarification. Subsequently, on January 23, 2004, the FEMA Region X Director forwarded his evaluation of the offsite Radiological Emergency Preparedness and Response Plans and a recommendation for formal approval, in accordance with Section 350.11 of FEMA's regulations. Included in this evaluation was a review of the Columbia Generating Station's offsite radiological emergency preparedness exercise conducted September 17-18, 2003, in accordance with 44 CFR 350.9 of FEMA regulations, and a report of the Public Meeting conducted on September 15, 2000, in accordance with 44 CFR 350.10 of FEMA's regulations.

Based on the evaluation and recommendation for approval by the FEMA Region X Director and the review by the headquarters staff, in accordance with 44 CFR 350.12 of FEMA's regulations, I find and determine that the State of Washington and local Radiological Emergency Preparedness and Response Plans specific to the Columbia Generating Station site are adequate to protect the health and safety of the public living in the vicinity of the site by providing reasonable assurance that appropriate protective measures can be taken offsite in the event of a radiological emergency and that the plans are capable of being implemented.

On June 17, 1994, FEMA previously approved the prompt alert and notification system installed and operational around the Columbia Generating Station, in accordance with the criteria of NUREG-0654/FEMA-REP-1, Rev. 1, Appendix 3, and FEMA-REP-10, “Guide for The Evaluation of Alert and Notification Systems for Nuclear Power Plants.” FEMA will continue to review the status of the offsite Radiological Emergency Response and Preparedness Plans specific to the Columbia Generating Station site in accordance with 44 CFR 350.13 of FEMA's regulations.

Dated: June 14, 2004.
Michael D. Brown,
Under Secretary, Emergency Preparedness & Response, Department of Homeland Security.

[FR Doc. 04-13903 Filed 6-18-04; 8:45 am]

BILLING CODE 9110-21-P